DEPARTMENT OF ENERGY

Southeastern Power Administration

Withdrawal of the Proposal To Select a Financial Sponsor and Intent To Formulate Power Marketing Policy

AGENCY: Southeastern Power Administration, DOE.

ACTION: Notice of withdrawal.

SUMMARY: Southeastern Power Administration (Southeastern) is withdrawing the proposal to select a financial sponsor for the upgrade of the Wolf Creek Hydropower Project, Russell County, Kentucky, and withdrawing the Intent to Formulate Power Marketing Policy to market additional capacity from the Wolf Creek Project upgrade, due to its inability to identify a group of sponsors willing to undertake the financial responsibility of rehabilitating and upgrading the Wolf Creek Project.

DATES: Southeastern will accept any comments regarding this withdrawal no later than August 19, 2002.

ADDRESSES: Comments on the withdrawal of the proposal should be sent to: Charles A. Borchardt, Administrator, Southeastern Power Administration, 1166 Athens Tech Road, Elberton, GA 30635-6711. Telephone: (706) 213-3800.

FOR FURTHER INFORMATION CONTACT: Leon Jourolmon, Assistant Administrator, Finance and Marketing, Southeastern Power Administration, 1166 Athens Tech Road, Elberton, GA 30635-6711. Telephone: (706) 213-3800.

SUPPLEMENTARY INFORMATION: Wolf Creek Dam and Lake Cumberland constitute a significant portion of the Cumberland River Reservoir System. The Project, authorized by the Flood Control Acts of 1938 and 1946, is operated to serve flood control, hydropower, recreation, fish and wildlife, and water quality needs. Located at river mile 460.9, the power plant contains six units brought online between 1951 and 1952, and has a total nameplate capacity of 270 megawatts (310 maximum peaking capacity). Average annual generation is 906 gigawatt hours, produced at a plant factor of 38 percent. Federal policy, set forth in the Water Resources Development Act of 1986 (Pub. L. 99-662) with regard to water resource projects, is to encourage each agency to negotiate reasonable private financing for the development of approved project purposes. A Notice of Intent to solicit non-Federal sponsors was published in the Federal Register on September 30, 1992, 57 FR 45052.

Southeastern has been unable to identify a group of sponsors willing to undertake the financial responsibility of rehabilitating and upgrading the Wolf Creek Project and has subsequently issued this Notice of Withdrawal.

Dated: August 1, 2002.
Charles A. Borchardt,
Administrator.

[FR Doc. 02-20169 Filed 8-8-02; 8:45 am]

BILLING CODE 6450-01-P